NUCLEAR REGULATORY COMMISSION

Application for a License To Export Highly-Enriched Uranium

Pursuant to 10 CFR 110.70(b)(2) “Public notice of receipt of an application,” please take notice that the Nuclear Regulatory Commission has received the following application for an export license. Copies of the application are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

In its review of the application for a license to export special nuclear material noticed herein, the Commission does not evaluate the health, safety or environmental effects in the recipient nation of the material to be exported. The information concerning this application follows.

NRC Export License Application
| Description of material: Material type | Description of material: Total qty | End use | Country of destination
Name of Applicant; Date of Application:
Transnuclear, Inc.; May 7, 2001 | Highly-Enriched Uranium (93.34%) | 32.36 kg Uranium/30.20 kg U-235 | Fuel for BR-2 Research Reactor | Beligum.
Date Received; Application Number:
May 8, 2001; XSNM03192

Dated this 18th day of May 2001 at Rockville, Maryland.
For the Nuclear Regulatory Commission.
Ronald D. Hauber,
Deputy Director Office of International Programs.

[FR Doc. 01-13144 Filed 5-23-01; 8:45 am]

BILLING CODE 7590-01-P